DEPARTMENT OF HEALTH AND HUMAN SERVICES

Centers for Medicare & Medicaid Services

42 CFR Part 484

[CMS-1265-CN2]

RIN 0938-AM93

Medicare Program; Home Health Prospective Payment System Rate Update for Calendar Year 2005; Correction

AGENCY: Centers for Medicare & Medicaid Services (CMS), HHS.

ACTION: Correction of final rule.

SUMMARY: This document corrects technical errors that appeared in the final rule published in the Federal Register on October 22, 2004 entitled “Medicare Program; Home Health Prospective Payment System Rate Update for Calendar Year 2005.”

EFFECTIVE DATE: January 1, 2005.

FOR FURTHER INFORMATION CONTACT: Randy Throndset, (410) 786-0131.

SUPPLEMENTARY INFORMATION:

I. Background

In FR Doc. 04-23440 of October 22, 2004 (69 FR 62124), there were a number of technical errors that are identified and corrected in the Correction of Errors section below. We have determined that technical errors occurred in the hospital wage index calculation process for fiscal year 2005, necessitating adjustments to the hospital wage index. CMS and the fiscal intermediaries made errors in handling the data used to calculate certain average hourly wages, and wage indexes. The corrections are effective January 1, 2005.

II. Correction of Errors

In FR Doc. 04-23440 of October 22, 2004 (69 FR 62124), replace the tables for Addenda A, B, and C on pages 62139-62162 with the following:

BILLING CODE 4120-01-P

BILLING CODE 4120-01-C

III. Waiver of Proposed Rulemaking

We ordinarily publish a notice of proposed rulemaking in the Federal Register to provide a period for public comment before the provisions of a notice such as this take effect in accordance with 5 U.S.C. 553(b)(B). We can waive this procedure, however, if we find good cause that notice and comment procedure is impracticable, unnecessary, or contraryto the public interest and incorporate a statement of the finding and the reasons for it into the notice issued.

The policies and payment methodology expressed in the CY 2005 final rule have previously been subjected to notice and comment procedures. This correction notice merely provides technical corrections to the CY 2005 final rule that was promulgated through notice and comment rulemaking, and does not make substantive changes to the policies or payment methodology that were expressed in the final rule. Specifically, this correction notice revises inaccurate tabular data. We find it unnecessary to undertake further notice and comment procedures with respect to this correction notice. Therefore, we find there is good cause to waive the notice and comment procedures for this correction notice.

(Catalog of Federal Domestic Assistance Program No. 93.773, Medicare—Hospital Insurance; and Program No. 93.774, Medicare—Supplementary Medical Insurance Program)

Dated: November 22, 2004.
Ann C. Agnew,
Executive Secretary to the Department.

[FR Doc. 04-26174 Filed 11-26-04; 8:45 am]

BILLING CODE 4120-01-P